DEPARTMENT OF HEALTH AND HUMAN SERVICES

Centers for Disease Control and Prevention

[60Day-11-11BJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol Walker, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Diabetes Prevention Recognition Program (DPRP)—New—Division of Diabetes Translation, National Center for Chronic Disease Prevention and Health Promotion (NCCDPHP), Centers for Disease Control and Prevention (CDC).

Background and Brief Description

Evidence from efficacy and effectiveness research studies has shown that lifestyle modifications leading to weight loss and increased physical activity can prevent or delay type 2 diabetes in individuals with prediabetes or those at high risk of developing diabetes. To translate these research findings into practice, lifestyle programs that are effective and affordable need to be widely available and delivered on an ongoing basis.

The Centers for Disease Control and Prevention (CDC) is working to ensure that effective diabetes prevention programs are scalable, sustainable and affordable. To fullfill this mission, CDC is establishing the CDC Diabetes Prevention Recognition Program (DPRP) as an activity of the National Diabetes Prevention Program, housed in the Division of Diabetes Translation. The DPRP will provide a mechanism for recognizing organizations that deliver effective, community-based type 2 diabetes prevention programs. Information about program recognition status will be available to people at high risk of type 2 diabetes, their health care providers, and health payers. The Diabetes Prevention Recognition Program is authorized under section 399V-3 of Public Law 111-148, which directs CDC “to determine eligibility of entities to deliver community-based type 2 diabetes prevention services,” monitor and evaluate the services, and provide technical assistance.

Organizations may apply for recognition through the DPRP by completing a one-time, on-line application form. To qualify, programs must meet the minimum eligibility requirements set forth in CDC's “DPRP Draft Recognition Standards and Operating Procedures.” Criteria for recognition include, but are not limited to: (1) Following an evidence-based curriculum that has been proven effective in research and demonstration projects, and (2) submitting de-identified participant process and outcome data to CDC every six months. CDC will use the process and outcome data to monitor and evaluate program effectiveness and to provide targeted technical assistance to applicant organizations. Three levels of recognition will be provided: Pending recognition for new applicants that have submitted an application and meet eligibility criteria defined by DPRP standards and operating procedures; Full recognition for programs that have demonstrated effectiveness according to DPRP standards; and Probationary recognition for programs that are working towards full attainment of the standards.

Each organization that seeks recognition through the DPRP will submit an initial, online application form to CDC. There is no application deadline. The de-identified process and outcome data necessary for assessing program performance will be submitted to CDC electronically twice per year. The due dates for these submissions will be determined by the date of the organization's initial application. CDC estimates that burden to respondents will be modest since the information requested for DPRP recognition is routinely collected by organizations that deliver lifestyle programs. To further minimize burden to respondents, CDC will accept process and outcome data submitted using any electronic format, software or method that meets the requirements established by DPRP standards and operating procedures.

OMB approval is requested for three years. CDC anticipates seeking continued OMB approval throughout the lifetime of the DPRP. Respondents will be organizational entities that offer diabetes prevention services. Participation in the DPRP is voluntary, and there are no costs to respondents other than their time.

Estimated Annualized Burden Hours
Type of respondent | Form name | Number of respondents | Number of responses per respondent | Average burden per response (in hr) | Total burden (in hr)
Applicants for Recognition through the DPRP | Application Form | 67 | 1 | 3/60 | 3
| Process and Outcome Data | 67 | 2 | 5/60 | 11
Total |  |  |  |  | 14

Thelma Sims,
Acting Reports Clearance Officer, Centers for Disease Control and Prevention.

[FR Doc. 2010-31978 Filed 12-20-10; 8:45 am]

BILLING CODE 4163-18-P